DEPARTMENT OF ENERGY

Federal Energy Regulatory Commission

[Docket No. RM04-2-000]

Rules Concerning Certification of an Electric Reliability Organization and the Establishment, Approval, and Enforcement of Electric Reliability Standards; Corrected Notice of Conference

November 18, 2003.

The Federal Energy Regulatory Commission (Commission) will hold a conference on Monday, December 1, 2003, at FERC headquarters, 888 First Street, NE., Washington, DC, in the Commission Meeting Room (Room 2C), at 1:30 p.m. The conference is open to the public, and no registration is required.

The Commission seeks input from interested persons regarding the content of the rulemaking the Commission would be required to implement under the provisions of proposed comprehensive energy legislation that relate to the certification of an electric reliability organization that would be responsible for establishing and enforcing electric reliability standards.¹ The proposed legislation would require the Commission to issue a final rule to implement the provisions related to electric reliability not later than 180 days after enactment. In light of the short timeframe for a final rule as contemplated in legislation being considered by a Senate-House conference committee, we are issuing this Notice in order to be in a position to proceed immediately with the rulemaking process if the legislation is enacted in the near future.

¹ The text of the proposed legislation is available at: http://energy.senate.gov/legislation/energybill2003/energybill2003.cfm.

The Commission is very interested in hearing from the public suggestions about how the reliability provisions of the comprehensive energy legislation should be implemented. Therefore, the conference will have an “open mike” format. People with a strong interest in speaking should contact by telephone or e-mail one of the Staff contacts identified below and identify the name of the speaker, his or her title, the person or entity the speaker represents, the speaker's telephone number and e-mail address, and a clear statement of the issue or issues to be addressed.

The Capitol Connection offers the opportunity for remote listening and viewing of the conference. It is available for a fee, live over the Internet, by phone or via satellite. Persons interested in receiving the broadcast, or who need information on making arrangements should contact David Reininger or Julia Morelli at Capitol Connection (703-993-3100) as soon as possible or visit the Capitol Connection Web site at http://www.capitolconnection.org and click on “FERC.”

For additional information please contact Jonathan First, 202-502-8529 or by e-mail at Jonathan.First@ferc.gov or William Longenecker, 202-502-8570 or by e-mail at William.Longenecker@ferc.gov.

Magalie R. Salas,
Secretary.

[FR Doc. E3-00377 Filed 11-24-03; 8:45 am]

BILLING CODE 6717-01-P